NATIONAL AERONAUTICS AND SPACE ADMINISTRATION

[Notice (06-030)]

Notice of Intent To Grant Exclusive License

AGENCY: National Aeronautics and Space Administration.

ACTION: Notice of Intent to Grant Exclusive License.

SUMMARY: This notice is issued in accordance with 35 U.S.C. 209(c)(1) and 37 CFR 404.7(a)(1)(i). NASA hereby gives notice of its intent to grant an exclusive license in the United States to practice the inventions described and claimed in U.S. Patent Application Serial Number 11/158,354 to Bigelow Aerospace, Inc. having its principal place of business in North Las Vegas, Nevada. The patent rights in this invention have been assigned to the United States of America as represented by the Administrator of the National Aeronautics and Space Administration. The prospective exclusive exclusive license will comply with the terms and conditions of 35 U.S.C. 209 and 37 CFR 404.7.

DATES: The prospective exclusive license may be granted unless within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Patent Counsel, Office of Chief Counsel, 2101 NASA Parkway, Houston, Texas 77058, Mail Code AL, 281-483-4871 (phone), 281-483-6939 (fax).

FOR FURTHER INFORMATION CONTACT: Theodore U. Ro, Patent Attorney, Office of Chief Counsel, 2101 NASA Parkway, Houston, Texas 77058, Mail Code AL. (281) 244-7148 (phone); (281) 483-6936 (fax). Information about other NASA inventions available for licensing can be found online at http://techtracs.nasa.gov/.

Dated: May 3, 2006.
Keith T. Sefton,
Deputy General Counsel, Administration and Management.

[FR Doc. E6-7119 Filed 5-9-06; 8:45 am]

BILLING CODE 7510-13-P